DEPARTMENT OF HEALTH AND HUMAN SERVICES

Centers for Disease Control and Prevention

Prospective Grant of Exclusive License: Chimeric West Nile/Dengue Viruses

AGENCY: Centers for Disease Control and Prevention (CDC), Department of Health and Human Services.

ACTION: Notice.

SUMMARY: This is a notice in accordance with 35 U.S.C. 209(e) and 37 CFR 404.7(a)(1)(i) that the Technology Transfer Office, Centers for Disease Control and Prevention (CDC), Department of Health and Human Services (HHS), is thinking about giving an exclusive license, in the field of use of in vitro diagnostics for dengue virus infection, to practice the inventions listed in the patent applications referred to below to CTK Biotech Inc., having a place of business in San Diego, California. The patent rights in these inventions have been assigned to the government of the United States of America. The patent applications(s) to be licensed are:

U.S. Provisional Application 61/049,342, filed 4/30/2008, entitled “Engineered, Chimeric West Nile/Dengue Viruses;” PCT Application PCT/US2009/041824, filed 4/27/2009, entitled “Engineered, Chimeric WN/Flavivirus as Reagents to Enhance Flavivirus Diagnostics and Vaccine Development;” U.S. National Stage Application 12/990,322, filed 10/29/2010, entitled “Chimeric West Nile/Dengue Viruses;” and all related continuing and foreign patents/patent applications for the technology family. CDC Technology ID No. I-020-08.

Status: Pending.

Priority Date(s): 4/30/2008.

The planned exclusive license will bring in royalties and will comply with the terms and conditions of 35 U.S.C. 209 and 37 CFR 404.7.

Technology

HHS/CDC has developed chimeric West Nile/Dengue viruses which express the immunogenic pre-membrane (prM) and envelope (E) surface proteins of dengue virus (DEN) in the genetic background of a West Nile (WN) virus. The genetic background in the chimeric virus contains the nonstructural genes of the WN virus. Due to the robust replication ability of WN virus, whose nonstructural proteins control replication in the chimeric virus, the WN/DEN virus exhibits much more robust viral replication in cell cultures, compared to the slow growing DEN viruses. The chimeric WN/DEN virus can be used as a substitute for wild-type dengue virus in multiple applications, including diagnostics, vaccine development, vaccine testing, and biological research. These applications are highly important to public health by offering improvements in DEN diagnostics and prevention of DEN viral disease.

DATES: Only written comments and/or applications for a license which are received by HHS/CDC on or before April 15, 2013 will be considered.

ADDRESSES: Requests for a copy of these patent applications, inquiries, comments, and other materials relating to the planned license should be directed to Donald Prather, J.D., Ph.D., Technology Licensing and Marketing Specialist, Technology Transfer Office, Centers for Disease Control and Prevention (CDC), 4770 Buford Highway, Mailstop K-79, Atlanta, GA 30341, Telephone: (770) 488-8612; Facsimile: (770) 488-8615; Email: dmprather@cdc.gov.

SUPPLEMENTARY INFORMATION: Applications for a license filed in response to this notice will be treated as objections to the giving of the planned license. Comments and objections submitted in response to this notice will not be made available for public inspection, and, to the extent permitted by law, will not be released under the Freedom of Information Act, 5 U.S.C. 552.

Dated: March 8, 2013.
Tanja Popovic,
Deputy Associate Director for Science, Centers for Disease Control and Prevention.

[FR Doc. 2013-05990 Filed 3-14-13; 8:45 am]

BILLING CODE 4163-18-P